DEPARTMENT OF THE INTERIOR

Fish and Wildlife Service

[FWS-R8-ES-2019-N100; FXES11130000-190-FF08E00000]

Endangered and Threatened Wildlife and Plants; Draft Recovery Plan for Nipomo Mesa lupine (Lupinus nipomensis)

AGENCY: Fish and Wildlife Service, Interior.

ACTION: Notice of document availability.

SUMMARY: We, the U.S. Fish and Wildlife Service, announce the availability of the Draft Recovery Plan for Nipomo Mesa lupine (Lupinus nipomensis) for public review and comment. The draft recovery plan includes objective, measurable criteria, and site-specific management actions as may be necessary to ameliorate threats such that the species can be removed from the Federal List of Endangered and Threatened Plants.

DATES: We must receive any comments on the draft recovery plan on or before July 19, 2021.

ADDRESSES:

Document availability: You may obtain a copy of the recovery plan from our website at http://www.fws.gov/endangered/species/recovery-plans.html. Alternatively, you may contact the Ventura Fish and Wildlife Office, U.S. Fish and Wildlife Service, 2493 Portola Road, Suite B, Ventura, California 93003 (telephone 805-644-1766).

Comment submission: If you wish to comment on the draft recovery plan, you may submit your comments in writing by any one of the following methods:

• U.S. mail: Field Supervisor, at the above address; or

• Email: r8ventura-recoverycomments@fws.gov. For additional information about submitting comments, see the Request for Public Comments section below.

FOR FURTHER INFORMATION CONTACT: Stephen P. Henry, Field Supervisor, at the above street address or telephone number (see ADDRESSES).

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer necessary under the criteria specified in section 4(a)(1) of the Act. The Act requires the development of recovery plans for listed species, unless such a plan would not promote the conservation of a particular species.

Pursuant to section 4(f) of the Act, a recovery plan must, to the maximum extent practicable, include (1) a description of site-specific management actions as may be necessary to achieve the plan's goals for the conservation and survival of the species; (2) objective, measurable criteria which, when met, would support a determination under section 4(a)(1) that the species should be removed from the List of Endangered and Threatened Species; and (3) estimates of the time and costs required to carry out those measures needed to achieve the plan's goal and to achieve intermediate steps toward that goal.

The Service has revised its approach to recovery planning; the revised process is called Recovery Planning and Implementation (RPI). The RPI process is intended to reduce the time needed to develop and implement recovery plans, increase recovery plan relevancy over a longer timeframe, and add flexibility to recovery plans so they can be adjusted to new information or circumstances. Under RPI, a recovery plan will include statutorily required elements (objective, measurable criteria; site-specific management actions; and estimates of time and costs), along with a concise introduction and our strategy for how we plan to achieve species recovery. The RPI recovery plan is supported by a separate Species Status Assessment, or in cases such as this one, a species biological report that provides the background information and threat assessment, which are key to recovery plan development. The essential component to flexible implementation under RPI is producing a separate working document called the Recovery Implementation Strategy (implementation strategy). The implementation strategy steps down from the more general description of actions described in the recovery plan to detail the specific, near-term activities needed to implement the recovery plan. The implementation strategy will be adaptable by being able to incorporate new information without having to concurrently revise the recovery plan, unless changes to statutory elements are required.

The Service listed Nipomo Mesa lupine (Nipomo lupine, Lupinus nipomensis) as endangered in 2000 (65 FR 14888). Nipomo lupine is a small, annual species in the Fabaceae (legume; pea and bean) family. Germination of Nipomo lupine seed is stimulated by the first adequate rainfall event in the autumn or winter and occurs in patches of bare soil. The flowers are bilaterally symmetric and composed of five purplish to pink petals. The species is likely capable of both selfing and outcrossing, although a specific pollinator has yet to be identified. Most plants typically start to form fruits (like a conventional pea pod) between the months of April and June and do not stop fruiting until the plants die. Nipomo lupine likely has a persistent seed bank because it has a hard, orthodox seed.

Nipomo lupine is restricted to stabilized coastal dune scrub habitat that is associated with the Nipomo Mesa in southwestern San Luis Obispo County, California. Its current geographic range is restricted to an area that is approximately 5.2 square kilometers (two square miles). The species is known from a single population that is currently recognized as three separate occurrences. Two of the three occurrences are currently extant, the smaller of which was re-established through experimental outplanting efforts. The third occurrence has been extirpated.

The primary threats to Nipomo lupine include displacement and habitat loss from invasive species (especially perennial veldt grass) and development activities (Factor A), seed predation (Factor C), stochastic loss and extinction (Factor E), and climate change (Factor E). All of these threats are compounded by the species biology including: Likely low genetic diversity (due to its apparent lack of an insect pollinator, selfing reproductive strategy, small population size, and small geographic extent), annual life cycle, dependence on adequate and seasonally-timed rainfall events to cue germination, and limited distribution of suitable habitat.

Recovery Strategy

The purpose of a recovery plan is to provide a framework for the recovery of a species so that protection under the Act is no longer necessary. A recovery plan includes scientific information about the species and provides criteria that enable us to gauge whether downlisting or delisting the species is warranted. Furthermore, recovery plans help guide our recovery efforts by describing actions we consider necessary for each species' conservation and by estimating time and costs for implementing needed recovery measures.

The goal of this draft recovery plan is to control or ameliorate impacts from current threats to Nipomo lupine such that the taxon no longer requires protections afforded by the Act and, therefore, warrants delisting. Continued coordination and outreach with our partners is needed to ensure long-term protections are afforded to Nipomo lupine and its habitat. The site-specific management actions identified in the draft recovery plan are as follows:

(1) Protect all currently unprotected habitat where the species occurs.

(2) Conduct outplanting activities at suitable sites to establish new occurrences throughout the Guadalupe-Nipomo Dunes region.

(3) Manage habitat that supports the species to reduce or eliminate threats.

(4) Collect seed and deposit accessions into the permanent conservation seedbank.

(5) Conduct annual census monitoring and experimental research projects.

(6) Determine those factors necessary for seed survival, optimal germination, and effective seedling establishment.

(7) Conduct genetics and demographic research.

(8) Develop opportunities for education and outreach.

Request for Public Comments

We request written comments on the draft recovery plan described in this notice. All comments received by the date specified in DATES will be considered in development of a final recovery plan for Nipomo lupine. You may submit written comments and information by mail, email, or in person to the Ventura Fish and Wildlife Office at the above address (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Authority

We developed this recovery plan and publish this notice under the authority of section 4(f) of the Act, 16 U.S.C. 1533(f).

Paul Souza,
Regional Director.

[FR Doc. 2021-12763 Filed 6-16-21; 8:45 am]

BILLING CODE 4333-15-P